DEPARTMENT OF HOMELAND SECURITY

U.S. Customs and Border Protection

DEPARTMENT OF THE TREASURY

19 CFR Part 12

[CBP Dec. 25-04]

RIN 1685-AA31

Imposition of Import Restrictions on Archaeological and Ethnological Material of Uzbekistan

AGENCY: U.S. Customs and Border Protection, Department of Homeland Security.

ACTION: Final rule.

SUMMARY: This document amends the U.S. Customs and Border Protection (CBP) regulations to reflect the imposition of import restrictions on certain archaeological and ethnological materials from the Republic of Uzbekistan (Uzbekistan). These restrictions are imposed pursuant to an agreement between the United States and Uzbekistan, entered into under the authority of the Convention on Cultural Property Implementation Act. This document amends the CBP regulations by adding Uzbekistan to the list of countries which have bilateral agreements with the United States imposing cultural property import restrictions and contains the Designated List, describing the archaeological and ethnological material to which the restrictions apply.

DATES: Effective on May 5, 2025.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on certain archaeological and ethnological material. Pursuant to the CPIA, the United States entered into a bilateral agreement with the Republic of Uzbekistan (Uzbekistan) to impose import restrictions on certain archaeological and ethnological material of Uzbekistan. This rule announces that the United States is now imposing import restrictions on certain archaeological and ethnological material of Uzbekistan through November 7, 2028. This period may be extended for additional periods, each extension not to exceed five years, if it is determined that the factors justifying the initial agreement still pertain and no cause for suspension of the agreement exists (19 U.S.C. 2602(e); § 12.104g(a) of title 19 of the Code of Federal Regulations (19 CFR 12.104g(a))).

Determinations

Under 19 U.S.C. 2602(a)(1), the United States must make certain determinations before entering into an agreement to impose import restrictions under 19 U.S.C. 2602(a)(2). On June 6, 2023, the Assistant Secretary for Educational and Cultural Affairs, United States Department of State, after consultation with and recommendation by the Cultural Property Advisory Committee, made the determinations required under the statute with respect to certain archaeological and ethnological material originating in Uzbekistan that is described in the Designated List set forth below in this document.

These determinations include the following: (1) that the cultural patrimony of Uzbekistan is in jeopardy from the pillage of archaeological material representing Uzbekistan's cultural heritage dating from approximately 50,000 B.C.E. to 1773 C.E., and ethnological materials dating from approximately 600 to 1917 C.E. (19 U.S.C. 2602(a)(1)(A)); (2) that the government of Uzbekistan has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On November 7, 2023, the Governments of the United States and Uzbekistan signed a bilateral agreement, “Agreement between the Government of the United States of America and the Government of the Republic of Uzbekistan Concerning the Imposition of Import Restrictions on Categories of Archaeological and Ethnological Materials of Uzbekistan” (hereinafter, “the Agreement”), pursuant to the provisions of 19 U.S.C. 2602(a)(2). The Agreement entered into force upon signature and enables the promulgation of import restrictions on certain categories of archaeological material ranging in date from approximately 50,000 B.C.E. to 1773 C.E., as well as certain categories of ethnological material dating from approximately 600 to 1917 C.E. A list of the categories of archaeological and ethnological materials subject to the import restrictions is set forth later in this document.

Restrictions and Amendment to the Regulations

In accordance with the Agreement, importation of material designated below is subject to the restrictions of 19 U.S.C. 2606 and 19 CFR 12.104g(a) and will be restricted from entry into the United States unless the conditions set forth in 19 U.S.C. 2606 and 19 CFR 12.104c are met. CBP is amending 19 CFR 12.104g(a) to indicate that these import restrictions have been imposed.

Import restrictions listed at 19 CFR 12.104g(a) are effective for no more than five years beginning on the date on which an agreement enters into force with respect to the United States. This period may be extended for additional periods of not more than five years if it is determined that the factors which justified the agreement still pertain and no cause for suspension of the agreement exists. Therefore, the import restrictions will expire on November 7, 2028, unless extended.

Designated List of Archaeological and Ethnological Materials From Uzbekistan

The Agreement between the United States and Uzbekistan includes, but is not limited to, the categories of objects described in the Designated List set forth below.

The Designated List includes archaeological and ethnological material of Uzbekistan. The archaeological material in the Designated List ranges in date from 50,000 B.C.E. through 1773 C.E. The ethnological material in the Designated List includes architectural elements, funerary objects, Islamic religious and ceremonial objects, and manuscripts associated with Uzbekistan's diverse history from 600 C.E. through 1917 C.E. The Designated List includes, but is not limited to, categories of objects described below.

Categories of Archaeological and Ethnological Material

I. Archaeological Material

A. Stone

B. Ceramics, Faience, and Fired Clay

C. Metal

D. Plaster, Stucco, and Unfired Clay (also called ganch or gypsum)

E. Painting

F. Ivory, Bone, and Shell

G. Glass

H. Leather, Birch Bark, Vellum, Parchment, and Paper

I. Textiles

J. Wood, Shell, and other Organic Material

K. Human Remains

II. Ethnological Material

A. Architectural Elements

B. Funerary Objects

C. Islamic Religious and Ceremonial Objects

D. Manuscripts

Approximate simplified chronology of well-known periods:

Middle and Upper Paleolithic: c. 50,000-12,000 B.C.E.

Mesolithic and Neolithic (Kelteminar): c. 12,000-3000 B.C.E.

Chalcolithic: c. 5500-3200 B.C.E.

Bronze Age (Bactria-Margiana Archaeological Complex/BMAC, Andronovo, Tazabagyab, Zamanbaba): c. 3000-1500 B.C.E.

Iron Age (Amirabad and Chust cultures, Yaz-I, Yaz-II and III cultures, Saka and Massagetae peoples, Achaemenid empire): c. 1500-329 B.C.E.

Greco-Bactrian and Kushan Periods (Seleucid empire, Greco-Bactrian kingdom, Khorezm kingdom, Kushan empire, Kangju Federation): 329 B.C.E.-241 C.E.

Late Antiquity (Kushano-Sasanians/Kushan-shahs, Afrigid rule in Khorezm, Sogdian principalities and city states, Chionites and Kidarite Huns, Hephthalite Empire, Turkic Qaghanate): 241-708 C.E.

Early Islamic/Medieval Period (Umayyad and Abbasid Caliphates, Samanid Empire, Karakhanid Khanate, Ghaznavid Dynasty, Seljuk Empire, Kara-Khitai Empire, Khwarazmshah (also spelled Khorezmshah) Dynasty): 708-1220 C.E.

Mongol Period (Mongol Empire, Chagatai (also spelled Chaghatai) Khanate, Timurid Empire): 1220-1510 C.E.

Uzbek Period (Shaibanid Dynasty, Khanate of Khiva (Khorezm), Khanate/Emirate of Bukhara, Khanate of Kokand): 1510-1917 C.E.

I. Archaeological Material

A. Stone

1. Architectural Elements—Primarily in alabaster, gypsum, jasper, limestone, marble, and onyx, but includes other types of stone. Category includes, but is not limited to, antefixes, balustrades, bricks and blocks from walls, ceilings, and floors; columns including capitals and bases, cornices, door frames, false gables, friezes, lintels, mihrabs, minarets, niches, panels, pillars, plinths, railings, qiblas, slabs, and screens. May be plain, molded, carved, or inscribed in various languages and scripts. Decorative elements may be in high or low relief. Architectural elements may include relief and inlay sculptures that were part of a building (e.g., mausoleums, mosques, minarets, palaces, religious structures, public buildings, stupas, and others) such as friezes, panels, or stone figures. Architectural elements may have religious imagery or have been part of religious structures. For example, Kushan Period styles may include images of the Buddha, scenes from the life of the Buddha, Bodhisattvas, and other human figures, as well as animals, columns, and floral, geometric, and/or vegetal motifs. Architectural elements carved in stone from Islamic periods may include inscriptions in multiple languages and scripts. Stone architectural elements were common across many periods in Uzbekistan's history. Approximate date: c. 250 B.C.E.-1770 C.E.

2. Non-Architectural Relief Sculptures—Primarily in alabaster, limestone, marble, steatite schist, and other types of stone. Types include, but are not limited to, carved bases, ceiling decoration, funerary headstones, fountains, monoliths, niches, plaques, roundels, slabs, sundials, and stela bases. Decorative elements may be in high- or low-relief and may include animal and/or human forms as well as floral, geometric, and/or vegetal motifs.

3. Small Statuary—Primarily in alabaster, calcite, chlorite, dolomite, jasper, limestone, marble, and steatite schist; primarily free standing; may have been shaped by carving, incision, grinding, polishing, or other techniques. Animal and human forms tend to be stylized. Includes game pieces. Small statuary is found throughout many archaeological periods from the Bronze Age onward; it is especially characteristic for BMAC and Kushan Bactria (Gandhara Art).

a. BMAC figurative statuary is often composite and made of more than one type of stone, often chlorite or steatite, with limestone. Bactrian statues are in anthropomorphic forms, primarily female, and are elaborately carved and/or incised. Forms tend to be abstract and stylized, with armless bodies and legs, and a small protruding head. Heads tend to be small and carved in white limestone. Often in a seated or squatting position. Zoomorphic forms are also included and are often in a squatting or coiled position. Sizes vary but are typically 14 cm tall. Approximate date: 3rd to 2nd millennium B.C.E.

b. Non-figurative BMAC statuary includes types such as so-called “columns,” “discs,” or “handbags.” Column and disc statues have a smooth finish. Columns may have an elongated and/or tapered form, wider at the base than at the top. Column sizes vary, but typically range from 28 to 40 cm high and from 10 to 20 cm wide. Discs may have an incision or groove through the center. Disc sizes vary, but typically range from 20 to 30 cm wide. Approximate date: 3rd to 2nd millennium B.C.E.

c. Late Antiquity statuary (sometimes called Sassanian) includes animal and human figures shaped by carving, grinding, and/or polishing. Figures tend to be stylized. May have been used for a variety of purposes, including as gaming pieces. Approximate date: 200-700 C.E.

4. Rock Art—Includes petroglyphs carved into limestone, shale, granite, or sandstone. Images may depict people such as archers and horse riders; animals such as birds, camels, donkeys, horses, foxes, leopards, mountain goats, oxen, wolves, or others; mythological figures; geographic symbols; sun symbols; or inscriptions, often in Arabic. Approximate date: 12,000 B.C.E.-1773 C.E.

5. Vessels and Containers—Primarily in alabaster, greenstone, jade, marble, steatite schist, and other materials. Vessel types may be conventional shapes such as bowls, boxes, canisters, cups, cylindrical vessels, goblets, flasks, jars, jugs, lamps, pipes, platters, stands, trays, votive vessels, and others. Includes vessel lids. Surfaces may be plain, polished, and/or incised or carved in relief with geometric, floral, or vegetal decoration, elaborate figural scenes, and/or inscriptions in various languages. Vessels may be inlaid with stones. Approximate date: 3000 B.C.E.-1773 C.E.

6. Tools, Instruments, and Weights—Includes ground stone and flaked stone tools.

a. Ground stone tools, instruments, and weights are mainly made from diorite, granite, marble, limestone, sandstone, quartz, and quartzite, but other types of stone are included. Types include balls, batons, maces, mortars, palettes, pestles, scrapers, scepters, and others. Includes spindle whorls and weights. Ends of batons and scepters may be carved or shaped. Stone weights can be shaped or ground into various forms, including balls, cubes, handbags, pyramids, rings, or teardrop shapes; may be polished; and may be decorated with incisions or inscriptions in multiple languages. Stone weights typically vary from 20 to 30 cm. Stone tools used to polish, shape, or sharpen other tools are included.

b. Flaked stone tools are primarily made of andesite, chert or other cryptocrystalline silicates, diabase, flint, jasper, limestone, sandstone, silicified limestone, quartz, quartzite, and others. Flaked stone tool types include awls, axes, bifaces, blades, choppers, cores, flakes, hammers, knives, microblades, microliths, projectiles, scrapers, sickles, unifaces, and others. Also includes tools like hammerstones and anvils used to create flaked stone tools.

7. Beads and Jewelry—Primarily in agalmatolite, argillite, agate, carnelian, chlorite, crypto-crystalline silicates, garnet, gypsum, flint, lapis lazuli, serpentine, slate, steatite schist, talc, turquoise, or other semi-precious materials, but also includes other types of stone. Beads may be carved, cut, drilled, ground, and/or polished. Beads include animal, conical, cylindrical, disc, faceted, tear drop, spherical, and other shapes. May have inscriptions in multiple types of languages and scripts. Jewelry includes amulets, bracelets, pendants, rings, and other types.

8. Stamps, Seals, and Gems—Primarily in agate, crypto-crystalline silicates, garnet, hematite, lapis, limestone, marble, nephrite, obsidian, rock crystal, steatite schist, or other types of stone. Stamps and seals may have engravings that include animals, human figures, geometric designs, inscriptions in various languages and scripts, and/or floral/vegetal motifs. Includes cameos and intaglios. Approximate date: 3000 B.C.E.-1500 C.E.

B. Ceramic, Faience, and Fired Clay

1. Statuary—Includes small and large-scale statuary in ceramic, faience, and terracotta. May take animal, deity, human, or mythical forms. Forms may also be composite, such as horse and rider statues. Many terracotta statues were created using molds. Some statues served as or on ossuaries for human remains. May have traces of paint, pigment, and/or plaster. Forms may be stylized. May be associated with religious activity, games, or toys. Includes terracotta molds. Approximate date: 3000 B.C.E.-1773 C.E.

2. Architectural Elements—Includes terracotta bricks, cornices, mihrabs, mosaics, niches, panels, pillars, pipes, tiles, window screens, and other elements used functionally or decoratively in buildings and mosaics. Bricks may be cut, carved, or molded to form decorative patterns on building exteriors. Mosaic designs include animals, humans, and geometric, floral, and/or vegetal motifs. Panels and tiles may be painted, plastered, or have traces of paint or plaster. Glazed tiles, porcelain tiles, and glazed bricks are well-known from the Middle Mongolian through the Uzbek Periods, used to decorate civic and religious architecture. Tiles may be rectangular, square, polygonal, or curved, or take three-dimensional forms, such as stalactites and muqarnas. Tiles may be carved, incised, impressed, molded, painted, and/or glazed with decorations in the form of animals, humans, interwoven or repeating geometric, star, floral, and/or vegetal motifs and patterns, and/or calligraphic writing in Arabic or Persian; or they may be inlaid as mosaics that form these designs. Glaze may be clear, monochrome, and/or polychrome; colors such as blue, turquoise, yellow, green, red, black, and white are common. Polychrome glaze may be applied in the cuerda seca technique, with ridges in relief containing the color. Gilding or gold leaf may be applied. Approximate date: 708-1773 C.E.

3. Vessels—Includes utilitarian vessels, fine tableware, lamps, ossuaries, special-purpose vessels, and other ceramic objects of everyday use produced in many periods of Uzbekistan's history. Approximate date: 5,000 B.C.E.-1773 C.E.

a. Neolithic—Includes earthenware vessels. Vessel types include bowls, cups, goblets, jars, vases, and other forms. Some vessels were painted with floral, geometric, and/or vegetal motifs or have incised or stamped decoration. May be undecorated. Approximate date: 5,000-3000 B.C.E.

b. Bronze Age through Late Antiquity Periods—Includes earthenware vessels that may have a pink, peach, orange, or gray core. Vessel types include conventional shapes such as basins, beakers, bottles, bowls, goblets, jars, pitchers, storage vessels, vases, as well other forms, such as cosmetic jars, incense burners, lamps, ossuaries, stands, and table amphorae. Vessel forms may have pedestalled bases and/or handles. Surface treatments may include glaze, slip, paint, and/or burnishing/polishing. Slip colors vary, but are typically buff, grey/black, or red. Decorative techniques include incised, stamped, and impressed decorations, including grooving, roulette, stamping, and other techniques. Stamps used for decoration range from simple geometric patterns to rosettes to elaborate scenes combining animal, floral, geometric, and/or vegetal designs. Some ceramic vessels were painted, designs vary but may include geometric, linear, or vegetal designs. Some vessels, like ossuaries, may have elaborate shapes created using molds; these shapes include chests with gabled lids and anthropomorphic forms. High-relief surface decorative techniques may include affixing or carving animal heads, scenes, or rosettes to the exterior surface of a vessel. Examples include Greco-Bactrian vessels that range from plain to having multiple types of surface treatment and decorative techniques. Some Late Antiquity vessel forms may have uniformly glazed ceramics in green, blue-green, or yellow glazes, while utilitarian forms may be unglazed. Includes lids of ceramic vessels. Approximate date: 3000 B.C.E.-700 C.E.

c. Islamic Periods—Includes earthenware vessels (often red and buff) and porcelain. Vessel types may form conventional shapes such as bowls, cups, dishes, ewers, flasks, ink stands, jars, jugs, platters, saucers, trays, and other types such as incense burners, ink pots, footed vessels, and zoomorphic shapes. May be hand-built, molded, or wheel thrown. Some common kitchenware ceramics were unglazed. Surface treatments may include slip, polishing, burnishing, stamping, and others. Vessels may have slip and paint. Other decorative techniques include incisions; high-relief carvings or additions; painted designs with anthropomorphic, floral, geometric, vegetal, and/or zoomorphic motifs; and/or inscriptions in multiple languages and scripts. Vessels may have colorless lead, monochrome, or polychrome glazing. Vessels may be colorful. Common colors include black, blue, brown, green, olive, tomato red, turquoise, yellow, and white. Glazed plates and bowls with inscriptions and/or stylized animals on a white background or with designs in black and white on an ochre-brown background are typical of the Samanid period. Includes lids of ceramic vessels. Approximate date: 700-1773 C.E.

4. Beads, Jewelry, and Ornaments—Includes bangles, beads, bracelets, buttons, ear spools, inlays, masks, rings, and spindle whorls, made of faience and terracotta. Approximate date: 12,000 B.C.E.-1773 C.E.

C. Metal—Includes copper, gold, silver, iron, lead, tin, electrum, and alloys such as bronze, brass, pewter, and steel. Metal objects were produced in many periods of Uzbekistan's history. Approximate date: 3000 B.C.E.-1773 C.E.

1. Containers and Vessels—Vessel types include conventional shapes such as basins, bowls, braziers, cauldrons, cups, dishes, ewers, flacons, jars, jugs, lamps, plates, platters, stands, table ornaments, and utensils, and may also include cosmetic containers, candlesticks, incense burners, medicine droppers, reliquaries (and their contents), spouted vessels, trays, and tripod stands. Includes lids, spouts, and handles of vessels. Metal containers may have been decorated by chasing (embossing), engraving, gilding, inlaying, punching, and/or repoussé (relief hammering). Designs include, but are not limited to, inscriptions in various languages and scripts, arabesque (intertwining) motifs, geometric, floral, and vegetal motifs, animal motifs, and portrait busts or scenes of human figures, such as ceremonial, banquet, or hunt scenes. Some containers may be inlaid with precious or semi-precious stones. Approximate date: 3000 B.C.E.-1773 C.E.

2. Jewelry and Personal Adornments—Types include, but are not limited to, amulets, belt-buckles, bracelets, buttons, crowns, earrings, mirrors, necklaces, pendants, pins, plaques, and finger rings. May have been decorated by chasing (embossing), cloisonné, enameling, engraving, filigree, gilding, granulation, inlaying, and/or repoussé (relief hammering). May be inlaid with precious or semi-precious stones. Approximate date: 3000 B.C.E.-1773 C.E.

3. Tools and Instruments—Types include, but are not limited to, awls, axes, bells, blades, celts, knives, needles, projectiles, socketed axes, spatulas, spearheads, and tools of craftspersons such as carpenters, masons, and metal smiths. Approximate date: 3000 B.C.E.-1773 C.E.

4. Weapons and Armor—Includes body armor, such as helmets, shin guards, shields, horse armor and bits. Launching weapons (arrowheads, spears, and javelins); hand-to-hand combat weapons (swords, daggers); and sheaths. Some weapons may be highly decorative and include inlays of other types of metals, precious stones, or semi-precious stones in the sheaths and hilts. Approximate date: 2000 B.C.E.-1773 C.E.

5. Coins—Ancient coins commonly found in Uzbekistan include gold, silver, copper, and copper alloy coins in a variety of denominations. Includes gold and silver ingots, which may be plain and/or inscribed. Some of the most well-known types are described below:

a. Achaemenid period coins, including Darics, Sigloi, Late Achaemenid Anatolian currencies. Approximate date: 550-330 B.C.E.

b. Greco-Bactrian coins, include gold staters, silver tetradrachms, silver and bronze drachms, and a small number of punch-marked coins. The bust of the king, the king on horseback, or an animal were on the obverse, and images of Greek deities or various symbols were on the reverse with the king's name written in Greek. Local rulers also minted imitations of these types. Approximate date: 250-125 B.C.E.

c. Kushan Dynasty coins include silver tetradrachms, copper coins, bronze didrachms, and gold dinars. Imagery includes portrait busts (Augustus type) or standing figures of the king with his emblem (tamgha). Classical Greek and Zoroastrian deities and images of the Buddha are depicted on the reverse. Approximate date: 19-230 C.E.

d. Kushano-Sasanian or Kushanshah coins include gold dinars, silver tetradrachms, and copper alloy denominations. Some Kushano-Sasanian coins followed the Kushan style of imagery, while others resemble Sasanian coins with the bust of the king wearing a large crown and Zoroastrian fire altars and deities. Inscriptions are written in Bactrian, Brahmi, or Pahlavi scripts. Approximate date: 225-365 C.E.

e. Hunnic (Hephthalite and Kidarite) coins include silver drachms, silver dinars, and small copper and bronze coins. Hephthalite coins resemble Sasanian coins with a portrait bust of the king on the obverse and a Zoroastrian fire altar on the reverse. Approximate date: late 4th to mid-8th centuries C.E.

f. Sogdian coins include bronze and silver dirhams and drachms. Some Sogdian coins are cast with a central hole, similar to coins from the Tang Dynasty in China. Sogdian coins may include imagery of Zoroastrian fire altars, rulers, portrait busts in profile, horse and rider, camels, and lions. Coins may have inscriptions in Sogdian scripts. Approximate dates: 4th to 9th centuries C.E.

g. Samanid, Karakhanid, Khorezmshah dynasty coins include bronze, copper, silver, and gold dinars and jitals and silver dirhams. Coins of these dynasties usually display Arabic inscriptions on both faces. Some Karakhanid coins have punch marks, like coins from the Tang Dynasty. Some Khorezmshah coins may have imagery of an elephant or horse with rider. Approximate date: 800-1250 C.E.

h. Chaghatai and Timurid coins include silver and copper tangas and dinars. Both coin types are decorated with Arabic inscriptions. Approximate date: 1227-1507 C.E.

i. Khanates of Bukhara, Khiva, and Kokand coins include copper, silver, and gold tangas; gold dinars; silver tetradrachms; gold ashfris and tillos or tillas. Coin types are decorated with inscriptions. Coins may be associated with the Janid, Shaybanid, or other dynasties. Approximate date: 1500-1773 C.E.

6. Statuary, Ornaments, and other Decorated Objects—Primarily in copper, gold, silver, bronze, or alloys of copper, tin, lead, and zinc. Includes free-standing or supported statuary; relief plaques or tablets; votive ornaments; and other ornaments. Decoration may include humans, animals, mythological figures (e.g., griffins or horned lions), and/or scenes of activity. Plaques or tablets may have been cast, chased, and/or embossed. Plaques and tablets may have inlay of other types of material. Statuary includes objects fashioned as humans, animals, or mythological figures; miniature chariots; wheeled carts; and other types of objects. Decorative elements may include floral, geometric, or vegetal motifs; inscriptions in multiple languages or scripts. Statuary includes naturalized and stylized forms. Approximate date: 3000 B.C.E.-1500 C.E.

7. Stamps and Seals—Primarily in cast bronze, and alloys of copper, tin lead, and zinc; includes stamps and seals in gold or silver. Types include amulets, rings, small devices with engraving on one side, and others. Stamps and seals may have engravings that include animals, human figures, geometric designs, inscriptions in various languages and scripts, and/or floral/vegetal motifs. May be compartmented or have inlay of other types of material. Approximate date: 3000 B.C.E.-1500 C.E.

8. Architectural Elements—Includes finials, fittings, and ornaments in metal on doors, windows, domes, and fountains. Approximate date: 600-1773 C.E.

D. Plaster, Stucco, and Unfired Clay (also called ganch or gypsum)—Includes animal figures, bas relief elements, ceiling decoration, columns, emblems, friezes, human figures, reliefs, medallions, ornaments, panels, plaques, roundels, tiles, vaults, wall decorations, window screens, and other architectural and non-architectural decoration or sculpture. There may be traces of paint, glaze, and/or gilding. Stucco panels may have elaborate scenes of animals, human activity, and/or floral, geometric, and vegetal patterns. Stucco panels may have been made with molds. Stucco figures and objects may have strong resemblance to Hellenistic styles. Painted clay objects and statues are often represented as single individuals, such as a Buddha, Bodhisattva, member of a royal house, or a male or female patron of a religious complex. Unfired clay roundels with stamped impressions used as sealing material are included. Approximate date: 3000 B.C.E.-1773 C.E.

E. Painting—Includes murals, wall paintings, and fragments of murals and wall paintings, often having a white base coat on ground clay mixed with vegetal matter. Subjects vary, but images of the Buddha, human figures, animals, landscapes, or mythical figures in thematic or heraldic scenes, ornamental motifs, and/or scenes from court life or religious activity are common. May include inscriptions in various scripts and languages. Some paintings may have three dimensional elements, such as trees and rosettes, often created from heavy layers of plaster (also called ganch). Paintings may have traces of gold leaf. Approximate date: 3rd century-1773 C.E.

F. Ivory, Bone, and Shell

1. Jewelry and Items of Personal Adornment—Primarily made from animal bone, animal teeth, bird bone, cowrie shell, horn, mother of pearl, shell, and tusks. Includes beads, buckles, buttons, combs, jewelry inlay, and others.

2. Containers, Handles, Statuary, Tools, and other Non-Architectural Objects—Includes awls, game die, handles on daggers, mirrors, needles, pins, plaques, pyxides/pyxis, rhytons, spoons, spinning and weaving tools, statuary/figurines, and other personal objects.

3. Furniture—Includes arms, brackets, handles, finials, footstools, and legs of chairs, chests, trunks, and other types of furniture.

G. Glass

1. Architectural Elements—Mosaics and stained glass with various designs and colors. May be part of large designs with floral, geometric, and/or vegetal motifs, often with religious imagery. Includes glass inlay used in architectural elements. Glass architectural materials are typically associated with mausoleums, mosques, and religious buildings. Approximate date: 800-1773 C.E.

2. Beads, Jewelry, and Ornaments—Includes beads that may be cylindrical, spherical, conical, disc, and others. Decorations may include bevels, incisions, and/or raised decoration. Glass beads may be used to adorn clothing, jewelry, ornaments, and other objects. Includes glass inlay used in other types of beads and/or jewelry. Approximate date: 1st century-1773 C.E.

3. Vessels—Vessel types may form conventional shapes such as beakers, bowls, cups, dishes, flasks, goblets, jars, lamps, mugs, perfume bottles, and vases, and other shapes such as cosmetic containers, medicine droppers, reliquaries, and others. Some vessel types may have been blown into molds or created using stamps. May have decorative elements including, but not limited to, simple geometric patterns or high-relief patterns including honeycomb patterns and waves. May be monochrome or polychrome. Approximate date: 800-1773 C.E.

4. Ornaments—Includes glass figurines and glass medallions. Figurines may be in the shape of animals, such as birds. Includes glass medallions, which may have impressed or relief patterns, such as animals, fish, hunting scenes, vegetal patterns, and others. Approximate date: 800-1773 C.E.

H. Leather, Birch Bark, Vellum, Parchment, and Paper

1. Manuscripts—Manuscripts, portions of manuscripts, and works on paper include handmade, handwritten, hand-illustrated and/or illuminated scrolls, sheets, bound volumes, and their bindings. Includes fragments. Writing, illustrations, and/or illuminations in ink, paint, and gold may be found on various media, including but not limited to, parchment, vellum, cotton, silk, and paper. Bindings may be composed of leather, wood, cloth, paper, and/or paste or pulp board. Texts may be written in various scripts and languages, including Kharosthi, Arabic, Persian, Uzbek, Turkish, other Turkic languages, Tajik, Pashto, Sogdian, Khwarezmian/Khorezmian, Manichaean, and others. Includes both religious texts and texts with secular content. Topics include, but are not limited to, astronomy, astrology, biography, botany, genealogy, history, law, literature, mathematics, medicine, memoir, natural sciences, philosophy, poetry, Islamic scriptures (Qu'ran and hadith), theology, and travel. Includes letters, documents, and records of all kinds. Manuscripts may have monochrome, bichrome, polychrome, and/or gold handmade decorations, decoupage and stenciled motifs, illustrations, and/or illuminations, as decorative borders, margins, frames, medallions, cartouches, illuminated frontispieces (sar-lawh) or headpieces (unwan), paintings, or scientific, astronomical, or mathematical diagrams. Decorative elements include arabesque (intertwining), geometric, floral, and/or vegetal motifs. Paper may be tinted and/or speckled with gold. Book paintings may depict animals, plants, and humans, including portraiture; landscapes and architectural scenes; and/or scenes of human activities, such as court audiences and ceremonies, encounters, hunting, falconry, battles, travel, and historical, religious, mythological, or legendary events. Bindings may be decorated with paint, lacquer, inlay, and/or engraved, tooled, impressed, or stamped designs and/or inscriptions. Approximate date: 600-1773 C.E.

2. Items of Personal Adornment—Primarily in leather, including bracelets, belts, bow cases, necklaces, quivers, saddles, sandals, shoes, and other types of jewelry. May be embroidered or embellished with other types of materials. Leather goods may have also been used in conjunction with other types of textiles.

I. Textiles—Includes silk, linen, cotton, hemp, wool, and other woven materials used in basketry and other household goods, burial shrouds, clothing, shoes, jewelry, and items of personal adornment, prayer cloths, tent coverings, and domestic textiles, carpets, and others. Decorative techniques may include embroidery with various motifs, including, but not limited to, animals, floral, geometric, and vegetal patterns/motifs or textiles may be undecorated. May have patterns woven into the body of the textile. May have traces of paint. May be embroidered or embellished with other types of materials. Approximate date: 3000 B.C.E.-1773 C.E.

J. Wood, Shell, and other Organic Material—Includes architectural pieces made from wood; columns; statuary and figurines; furniture; jewelry and other items of personal adornment; musical instruments; decorative panels; vessels and containers; and engraved stamps and seals from archaeological contexts. Approximate date: 3000 B.C.E.-1773 C.E.

K. Human Remains—Includes human and other hominin remains and fragments of hominin remains, including skeletal remains, soft tissue, and ash from the human body that may be preserved in burials, reliquaries, and other contexts.

II. Ethnological Material

Ethnological material includes architectural elements, funerary objects, Islamic religious and ceremonial objects, and manuscripts associated with Uzbekistan's diverse history from 600 C.E. through 1917 C.E.

A. Architectural Elements—Architectural elements are found in stone, ceramic or terracotta, plaster or stucco, wood, and other painted media used to decorate civic and religious architecture. Approximate date: 600-1917 C.E.

1. Stone—Includes elements in alabaster, gypsum, jasper, limestone, marble, onyx, and other stones. Includes bricks and blocks from walls, ceilings, and floors; balustrades; columns, including capitals and bases; cornices; mihrabs; panels; pillars, including capitals and bases; plinths; railings; slabs; screens; and others. May be plain, carved in relief, incised, inlaid, or inscribed in various languages and scripts. May be painted and/or gilded. Approximate date: 600-1917 C.E.

2. Ceramic and Terracotta—Includes bricks, cornices, mihrabs, mosaics, niches, panels, pillars, tiles, window screens (panjara), and other elements as decorative elements in or on civic and religious buildings and made from terracotta (fired clay) or faience. Bricks may be cut, carved, or molded to form decorative patterns on building facades. Tiles may be rectangular, square, polygonal, or curved, or take three-dimensional forms, such as stalactites and muqarnas. Tiles, bricks, and panels may be plain, or they may be painted and/or glazed; they may bear plaster or gypsum decoration. Tiles may be carved, incised, impressed, molded, painted, and/or glazed with decorations in the form of animals, humans, interwoven or repeating geometric, star, floral, and/or vegetal motifs and patterns, and/or calligraphic writing in Arabic or Persian; or they may be inlaid as mosaics that form these designs. Glaze may be clear, monochrome, and/or polychrome; colors such as blue, turquoise, yellow, green, red, black, and white are common. Polychrome glaze may be applied in the cuerda seca technique, with ridges in relief that contain the color. Gilding or gold leaf may be applied. Approximate date: 600-1917 C.E.

3. Metal—Includes finials, fittings, and ornaments in metal on doors, windows, domes, and fountains. Approximate date: 600-1917 C.E.

4. Plaster and Stucco, also called ganch or gypsum—Includes ceiling decoration or tracery, friezes, panels, reliefs, tiles, vaults, wall decoration, and other types. May be carved or molded in high or low relief; painted or bear traces of paint; gilded; glazed; and/or inscribed in various languages and scripts. Designs may include human, animal, and mythical figures, heraldic motifs, interwoven geometric, star, floral, and/or vegetal patterns. Approximate date: 600-1917 C.E.

5. Paintings and Frescoes—Includes paintings and frescoes on the walls and ceilings of civic and religious buildings, and fragments thereof. Motifs include human, animal, bird, and mythical figures in thematic or heraldic scenes; plants and trees in landscapes or as part of geometric designs; interwoven geometric, floral, and/or vegetal designs; and inscriptions in Sogdian, Arabic, or Persian. Paintings can be monochrome or polychrome and may also bear gilding or gold leaf. Approximate date: 600-1917 C.E.

6. Glass—Includes glass pieces or tiles arranged in mosaic fashion to create geometric, floral, and/or vegetal designs on architectural surfaces or in windows. Glass may be mirrored or stained. Approximate date: 1000-1917 C.E.

7. Wood—Includes hand-carved arches, bases, beams, capitals, ceilings, columns, column-bases, doors, door frames, friezes, jambs, lintels, mihrabs, minbars, niches, jambs, panels, posts, screens, shutters, window frames and fittings, and window screens, or parts thereof, used as structural elements in and/or to decorate civic or religious architecture. These architectural elements may have been reused for new purposes, such as a wood panel used as a table or a door jamb used as a bench. May be carved, grooved, incised, inlaid with other materials, and/or painted; carving may appear in low or high relief. Designs include human, animal, and bird figures, interwoven geometric, floral, and/or vegetal motifs, and/or inscriptions in Arabic or Persian. Approximate date: 600-1917 C.E.

B. Funerary Objects—Found in stones such as alabaster, jade, limestone, marble, and others, as well as in wood. Includes memorial markers, tombstones, cenotaphs, sepulchers, and stelas. Tombstones may take a stepped shape (sagan) and be raised on a plinth (dakhma). Markers, stelas, or cenotaphs may bear the design of a niche. May be carved, engraved, or incised with interwoven geometric, floral, and/or vegetal motifs, and/or inscriptions in Arabic, Persian, or other languages. Approximate date: 600-1917 C.E.

C. Islamic Religious and Ceremonial Objects—Includes moveable objects typically used in Islamic communal religious and ceremonial settings in all materials. Primarily in stone, metal, ceramic or clay, glass, wood, bone, ivory, textiles, leather, and other organic materials. Approximate date: 600-1917 C.E.

1. Non-Architectural Monuments—Primarily in stone (especially alabaster, limestone, and marble) or metal (especially copper, bronze, and brass). Types include plaques and stelae with religious, floral, geometric, or arabesque (intertwining) motifs; may bear Arabic or Persian inscriptions.

2. Vessels and Containers—Includes vessels and containers used in religious and ceremonial settings in stone, metal (especially silver, copper, bronze, brass, and other alloys), ceramic, glass, wood, bone, ivory, leather, lacquered papier-mâché, and other materials. Types include lamps and lanterns; incense burners and braziers; candlesticks, candelabras, and sconces from religious settings; alms or begging bowls (kashkul); and scroll or manuscript containers, such as boxes, pouches, chests, cases, or caskets used to hold a Qu'ran or other Islamic religious text. May be plain or decorated with intertwining floral, geometric, or vegetal motifs; may bear Arabic or Persian inscriptions.

3. Furniture—Primarily in wood and stone. Types include pulpits (minbars), prayer niches (mihrabs), screens, Qu'ran holders or stands, lecterns, study tables, cabinets, and other furniture used in religious and ceremonial settings. May be carved, incised, painted, gilded, and/or inlaid with other materials; may be decorated with interwoven geometric, floral, and/or vegetal motifs, and/or inscriptions in Arabic or Persian.

4. Textiles—Includes textiles used for religious and ceremonial purposes, primarily in linen, silk, and wool. Types include banners, hangings, and curtains used in religious and ceremonial settings; shrine covers; and shrouds. Often woven or embroidered in bright colors with interwoven geometric, floral, or vegetal designs, and/or Arabic or Persian inscriptions.

D. Manuscripts—Manuscripts, portions of manuscripts, and works on paper include handmade, handwritten, hand-illustrated and/or illuminated scrolls, sheets, bound volumes, and their bindings. Includes fragments. Writing, illustrations, and/or illuminations in ink, paint, and gold may be found on various media, including but not limited to, parchment, vellum, cotton, silk, and paper. Samarkand, Herat, Bukhara, and Kokand paper are particularly common, but paper of Chinese, Indian, Kashmir, European, Russian, Middle Eastern, other Central Asian, and other origins was also used. Bindings may be composed of leather, wood, cloth, paper, and/or paste or pulp board. Box bindings and bindings with or without a fore-edge flap are typical. Texts may be written in various scripts and languages, including Arabic, Persian, Uzbek, Turkish, other Turkic languages, Tajik, Pashto, Sogdian, Khwarezmian/Khorezmian, Manichaean, and others. Includes both Islamic religious texts and texts with secular content. Topics include, but are not limited to, astronomy, astrology, biography, botany, genealogy, history, law, literature, mathematics, medicine, memoir, natural sciences, philosophy, poetry, Islamic scriptures (Qu'ran and hadith), theology, and travel. Manuscripts may have monochrome, bichrome, polychrome, and/or gold handmade decorations, decoupage and stenciled motifs, illustrations, and/or illuminations, as decorative borders, margins, frames, medallions, cartouches, illuminated frontispieces (sar-lawh) or headpieces (unwan), paintings, or scientific, astronomical, or mathematical diagrams. Decorative elements include arabesque (intertwining), geometric, floral, and/or vegetal motifs. Paper may be tinted and/or speckled with gold. Book paintings may depict animals, plants, and humans, including portraiture; landscapes and architectural scenes; and/or scenes of human activities, such as court audiences and ceremonies, encounters, hunting, falconry, battles, travel, and historical, religious, mythological, or legendary events. Bindings may be decorated with paint, lacquer, inlay, and/or engraved, tooled, impressed, or stamped designs and/or inscriptions. Approximate date: 600-1917 C.E.

References

History of Civilizations in Central Asia. Volume V. Development in Contrast: From the Sixteenth to the Mid-Nineteenth Century, 2003, C. Adle, et al., UNESCO Publishing, Paris.

History of Civilizations in Central Asia. Volume IV. The Age of Achievement: A.D. 750 to the End of the Fifteenth Century. Part One: The Historical, Social, and Economic Setting, 1998, M.S. Asimov and C.E. Bosworth, UNESCO Publishing, Paris.

Habitat and Occupancy during the Bronze Age in Central Asia Recent work at the sites of Ulug-depe (Turkmenistan) and Dzharkutan (Uzbekistan), in Urban Cultures of Central Asia from the Bronze Age to the Karakhanids, 2016, J. Bendezu-Sarmiento and J. Lhuillier, Proceedings of the First International Congress on Central Asian Archaeology: University of Bern.

History of Civilizations in Central Asia. Volume IV. The Age of Achievement: A.D. 750 to the End of the Fifteenth Century. Part Two: The Achievements, 2000, C.E. Bosworth and M.S. Asimov, UNESCO Publishing, Paris.

History of Civilizations in Central Asia, Volume I. The Dawn of Civilization: Earliest Times to 700 B.C., 1992, A.H. Dani and V.M. Masson, UNESCO Publishing, Paris.

Bronze Age Central Asia, 2014, P.D. Dupuy, The Oxford Handbook of Topics in Archaeology: Oxford University Press.

Architectural Ceramics of Uzbekistan, 2006, N.S. Grazhdankina, et al., UNESCO Office in Tashkent.

History of Civilizations in Central Asia, Volume II. The Development of Sedentary and Nomadic Civilizations: 700 B.C. to A.D. 250, 1994, J. Harmatta, et al., UNESCO Publishing, Paris.

History of Civilizations in Central Asia. Volume III. The Crossroads of Civilizations: A.D. 250 to 750, 1996, B.A. Litvinksy et al., UNESCO Publishing, Paris.

The Artistic Culture of Central Asia and Azerbaijan in the 9th-15th Centuries: Volume I: Ceramics, 2011, A. Khakimov, International Institute for Central Asian Studies: Samarkand-Tashkent.

Masterpieces of the Samarkand Museum, 2004, A. Khakimov, et al., State Museum of History and Culture of Uzbekistan: Tashkent.

The Graeco-Bactrian and Indo-Greek World, 2021, R. Mairs, Routledge, Abingdon.

The Islamic World, 1987, Metropolitan Museum of Art, New York.

The Treasury of Oriental Manuscripts: Abu Rayhan Al-Biruni Institute of Oriental Studies of the Academy of Sciences of the Republic of Uzbekistan, 2012, UNESCO Office in Tashkent and The Academy of Sciences of the Republic of Uzbekistan Abu Rayhan al-Biruni Institute of Oriental Studies, UNESCO Office in Tashkent.

Inapplicability of Notice and Delayed Effective Date

This amendment involves a foreign affairs function of the United States and is, therefore, being made without notice or public procedure under 5 U.S.C. 553(a)(1). For the same reason, a delayed effective date is not required under 5 U.S.C. 553(d)(3).

Executive Order 12866

Executive Order 12866 (Regulatory Planning and Review) directs agencies to assess the costs and benefits of available regulatory alternatives and, if regulation is necessary, to select regulatory approaches that maximize net benefits (including potential economic, environmental, public health and safety effects, distributive impacts, and equity). CBP has determined that this document is not a regulation or rule subject to the provisions of Executive Order 12866 because it pertains to a foreign affairs function of the United States, as described above, and therefore is specifically exempted by section 3(d)(2) of Executive Order 12866.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

In accordance with Treasury Order 100-20, the Secretary of the Treasury delegated to the Secretary of Homeland Security the authority related to the customs revenue functions vested in the Secretary of the Treasury as set forth in 6 U.S.C. 212 and 215, subject to certain exceptions. This regulation is being issued in accordance with DHS Directive 07010.3, Revision 03.2, which delegates to the Commissioner of CBP the authority to prescribe and approve regulations related to cultural property import restrictions.

Pete Flores, Acting Commissioner, having reviewed and approved this document, has delegated the authority to electronically sign this document to the Director (or Acting Director, if applicable) of the Regulations and Disclosure Law Division of CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, amend the table in paragraph (a) by adding Uzbekistan to the list in appropriate alphabetical order as follows:

§ 12.104g Specific items or categories designated by agreements or emergency actions.

(a) * * *

State party | Cultural property | Decision No.
* * * * * * *
Uzbekistan | Archaeological materials representing Uzbekistan's cultural heritage ranging from approximately 50,000 B.C.E. to 1773 C.E., and ethnological materials ranging from approximately 600 C.E. to 1917 C.E | CBP 25-04
* * * * * * *

* * * * *

Robert F. Altneu,
Director, Regulations and Disclosure Law Division, Regulations and Rulings, Office of Trade, U.S. Customs and Border Protection.

[FR Doc. 2025-07849 Filed 5-2-25; 8:45 am]

BILLING CODE 9111-14-P